EXPORT-IMPORT BANK

Sunshine Act Meetings; Notice of an Open Meeting of the Board of Directors of the Export-Import Bank of the United States

TIME AND DATE: Tuesday, December 22, 2020 at 10:00 a.m.

PLACE: The meeting will be held via teleconference.

STATUS: The meeting will be open to public observation for Item Number 1 only.

MATTERS TO BE CONSIDERED: Credit Risk Appetite—Linkage to the Budget Cost Level.

CONTACT PERSON FOR MORE INFORMATION: Joyce B. Stone (202-257-4086). Members of the public who wish to attend the meeting via audio only teleconference should register via https://attendee.gotowebinar.com/register/7315218396872121868 by noon Monday, December 21, 2020. Individuals will be directed to a Webinar registration page and provided call-in information.

Joyce B. Stone,
Assistant Corporate Secretary.

[FR Doc. 2020-27445 Filed 12-9-20; 4:15 pm]

BILLING CODE 6690-01-P